DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice updates the VA Performance Review Board of the Department of Veterans Affairs that was published in the Federal Register on November 2, 2006 (Vol. 71, 212).

EFFECTIVE DATE: October 30, 2007.

FOR FURTHER INFORMATION CONTACT: Charlotte Moment, Office of Human Resources Management (052B), Department of Veterans Affairs, 810 Vermont Avenue, NW., Washington, DC 20420, (202) 461-7856.

VA Performance Review Board (PRB)

Paul J. Hutter, Executive in Charge of the Office of the Assistant Secretary for Human Resources and Administration (Chairperson)

Thomas J. Hogan, Special Assistant (Alternate Chairperson)

Thomas G. Bowman, Chief of Staff

Kenneth M. Greenberg, Executive Secretary to the Department (Alternate)

Ronald R. Aument, Deputy Under Secretary for Benefits, Veterans Benefits Administration

Michael Walcoff, Associate Deputy Under Secretary for Operations, Veterans Benefits Administration (Alternate)

Gerald M. Cross, M.D., Deputy Under Secretary for Health, Veterans Health Administration

William F. Feeley, Assistant Deputy Under Secretary for Health for Operations and Management, Veterans Health Administration (Alternate)

Louise R. Van Diepen, Chief of Staff, Veterans Health Administration (Alternate)

John H. Thompson, Deputy General Counsel

Joseph Bauernfeind, Director, Office of Business Oversight

Robert T. Howard, Assistant Secretary for Information Technology

Jon A. Wooditch, Deputy Inspector General

Sharon K. Barnes, Deputy Chief of Staff

Richard Wannemacher, Jr., Senior Advisor, National Cemetery Administration

Karen W. Pane, Deputy Assistant Secretary for Planning and Evaluation

Lucretia M. McClenney, Director, Center for Minority Veterans

Patricia C. Adams, Deputy Assistant Secretary of the Navy (Civilian Human Resources), Department of the Navy

Veterans Benefits Administration PRB

Ronald R. Aument, Deputy Under Secretary for Benefits, (Chairperson)

Geraldine V. Breakfield, Associate Deputy Under Secretary for Management

R. Keith Pedigo, Associate Deputy Under Secretary for Policy & Program Management

Michael Walcoff, Associate Deputy Under Secretary for Field Operations

Jimmy Norris, Chief Financial Officer

Diana M. Rubens, Director, Western Area Office

Sharon K. Barnes, Deputy Chief of Staff, Office of the Secretary

A. Jacy Thurmond, Jr., Senior Advisor to the Deputy Commissioner of the Social Security Administration, U.S. Social Security Administration

Veterans Health Administration PRB

Gerald M. Cross, MD, FAAFP, Principal Deputy Under Secretary for Health

William F. Feeley, Vice-Chair, Deputy Under Secretary for Health for Operations and Management

Madhulika Agarwal, MD, Chief Patient Care Services Officer

Linda W. Belton, Network Director, VISN 11

Lawrence A. Biro, Network Director, VISN 7

Everett A. Chasen, Chief Communications Officer

Joleen M. Clark, Deputy Chief Management Support Officer (Ex Officio, Alternate)

Barbara B. Fleming, MD, PhD, Chief Quality and Performance Officer

Sanford M. Garfunkel, Network Director, VISN 5

Glen W. Grippen, Network Director, VISN 19

W. Paul Kearns III, Acting Chief Financial Officer

Craig B. Luigart, VHA Chief Information Officer

Michael E. Moreland, Network Director, VISN 4

Caitlin O'Brien, Chief Compliance and Business Integrity Officer

Robert A. Petzel, MD, Network Director, VISN 23

Catherine J. Rick, RN, MSN, Chief Nursing Officer

James Roseborough, Network Director, VISN 12

Louise R. Van Diepen, VHA Chief of Staff

Patricia Vandenberg, Assistant Deputy Under Secretary for Health for Policy and Planning

Nevin M. Weaver, Director, Management Support Office (Ex Officio)

Robert L. Wiebe, MD, Network Director, VISN 21

Joseph A. Williams, Jr., Assistant Deputy Under Secretary for Health for Operations and Management

Sharon K. Barnes, Deputy Chief of Staff

Maureen E. Gormley, Chief Operating Officer, National Institutes of Health Clinical Center, National Institutes of Health

Office of Inspector General PRB

Michael P. Stephens, Deputy Inspector General, Department of Housing and Urban Development, Office of Inspector General

Thomas J. Howard, Deputy Inspector General, National Air and Space Administration, Office of Inspector General

Elliot P. Lewis, Assistant Inspector General for Audit, Department of Labor, Office of Inspector General

Dated: October 24, 2007.
Gordon H. Mansfield,
Acting Secretary of Veterans Affairs.

[FR Doc. 07-5380 Filed 10-29-07; 8:45 am]

BILLING CODE 8320-01-M